DEPARTMENT OF COMMERCE

International Trade Administration

A-570-848

Notice of Rescission of Antidumping Duty New Shipper Reviews: Freshwater Crawfish Tail Meat from the People's Republic of China

AGENCY: Import Administration, International Trade Administration, Department of Commerce.

SUMMARY: On April 29, 2005, in response to requests from Jiangsu Jiushoutang Organisms-Manufacturers Co. Ltd. (“Jiangsu JOM”), Shanghai Sunbeauty Trading Co., Ltd.("Shanghai Sunbeauty”), and Qingdao Wentai Trading Co. Ltd. (“Wentai”), the Department of Commerce (“the Department”) initiated new shipper reviews of the antidumping duty order on freshwater crawfish tail meat from the People's Republic of China (“PRC”). The period of review (“POR”) is September 1, 2004, through February 28, 2005. For the reasons discussed below, we are rescinding these new shipper reviews.

EFFECTIVE DATE: July 3, 2006.

FOR FURTHER INFORMATION CONTACT: Scot Fullerton or P. Lee Smith, AD/CVD Operations, Office 9, Import Administration, International Trade Administration, U.S. Department of Commerce, 14th Street and Constitution Avenue, NW, Washington, DC, 20230; telephone: (202) 482-1386 or (202) 482-1655, respectively.

SUPPLEMENTARY INFORMATION:

Scope of the Order

The product covered by this order is freshwater crawfish tail meat, in all its forms (whether washed or with fat on, whether purged or unpurged), grades, and sizes; whether frozen, fresh, or chilled; and regardless of how it is packed, preserved, or prepared. Excluded from the scope of the order are live crawfish and other whole crawfish, whether boiled, frozen, fresh, or chilled. Also excluded are saltwater crawfish of any type, and parts thereof. Freshwater crawfish tail meat is currently classifiable in the Harmonized Tariff Schedule of the United States (HTSUS) under item numbers 1605.40.10.10 and 1605.40.10.90, which are the new HTSUS numbers for prepared foodstuffs, indicating peeled crawfish tail meat and other, as introduced by the U.S. Customs Service in 2000, and HTSUS items 0306.19.00.10 and 0306.29.00, which are reserved for fish and crustaceans in general. The HTSUS subheadings are provided for convenience and Customs purposes only. The written description of the scope of this order is dispositive.

Background

On March 17, 2005, the Department received properly filed requests for a new shipper review from Shanghai Sunbeauty and Jiangsu JOM. On March 18, 2005, the Department received a properly filed request for a new shipper review from Wentai. On April 29, 2005, the Department published its initiation of these new shipper reviews for the period September 1, 2004, through February 28, 2005. See Freshwater Crawfish Tail Meat From the People's Republic of China: Initiation of New Shipper Antidumping Administrative Reviews, 70 FR 23987 (May 6, 2005).

On June 2, 2005, the Department received Jiangsu JOM, Shanghai Sunbeauty and Wentai's section A questionnaire responses. On June 22, 2005, the Department received Jiangsu JOM and Shanghai Sunbeauty's section C & D questionnaire responses. On June 30, 2005, the Department received Wentai's section C & D questionnaire responses. On July 21, 2005, the Department issued its first supplemental questionnaires to Jiangsu JOM and Shanghai Sunbeauty. On July 25, 2005, the Department issued its first supplemental questionnaire to Wentai. On August 12, 2005, Wentai submitted its response to the Department's first supplemental questionnaire. On August 17, 2005, Jiangsu JOM and Shanghai Sunbeauty submitted their responses to the Department's first supplemental questionnaire. On August 18, 2005, Jiangsu JOM submitted a supplement to their August 17, 2005, submission. On September 19, 2005, the Department issued its second supplemental questionnaire to Jiangsu JOM and Shanghai Sunbeauty. On September 20, 2005, the Department issued its second supplemental questionnaire to Wentai. On October 3, 2005, Jiangsu JOM and Shanghai Sunbeauty submitted their responses to the Department's second supplemental questionnaires. On October 5, 2005, Wentai submitted its response to the Department's second supplemental questionnaire. On October 21, 2005, the Department rejected Jiangsu JOM's response to the Department's second supplemental questionnaire. On October 26, 2005, Jiangsu JOM resubmitted its response to the Department's second supplemental questionnaire.

On October 14, 2005, the Department extended the due date for the preliminary results of this new shipper review by 120 days from the original October 26, 2005, deadline until February 23, 2006. See Freshwater Crawfish Tail Meat from the People's Republic of China: Notice of Extension of Time Limit of Preliminary Results of New Shipper Review, 70 FR 61117 (October 20, 2005).

From October 18 through October 21, 2005, the Department conducted verification of Jiangsu JOM's questionnaire responses at the company's facilities in Xinghua City, Jiangsu, China. See Verification Report for Jiangsu Jiushoutang Organisms Manufacturers Co. Ltd., dated February 17, 2006. From January 23 through January 24, 2006, the Department conducted verification of Jiangsu JOM's affiliated U.S. importer, Easy River Seafood Corp. (“Easy River”), in Alhambra, CA. See Verification Report for Easy River Seafood Corp., dated February 17, 2006.

From October 31 through November 1, 2005, the Department conducted verification of Shanghai Sunbeauty's questionnaire responses at the company's sales office in Shanghai, China. See Verification Report for Shanghai Sunbeauty Trading Co. Ltd., dated February 17, 2006. From November 3 through November 4, 2005, the Department conducted verification of Shanghai Sunbeauty's questionnaire responses relating to its producer for the POR, Wuwei Xinhua Food Co. Ltd. (“Wuwei Xinhua”), in Wuwei County, Anhui Province, China. See Verification Report for Wuwei Xinhua Food Co. Ltd., dated February 21, 2006. From January 26 through January 27, 2006, the Department conducted verification of Shanghai Sunbeauty's affiliated importer, Seawind Inc. (“Seawind”), in Redmond, WA. See Verification Report for Seawind Inc., dated February 17, 2006.

From January 19 through 20, 2006, the Department conducted verification of Qingdao Wentai's questionnaire responses at the company's facilities in Qingdao, Shandong Province, China. See Verification Report for Qingdao Wentai Trading Co. Ltd., dated February 17, 2006. The Department also conducted verification at the Qingdao Wentai's producer, Nanxian Shunxiang Aquatic Products Foodstuffs Co., Ltd.'s (“Shunxiang”) facilities in Nanzhou Town, Hunan Province, China, from January 16 to January 17, 2006. See Verification Report for Nanxian Shunxiang Aquatic Products Foodstuffs Co. Ltd., dated February 17, 2006.

On February 23, 2006, the Department completed its preliminary bona fides analysis for Jiangsu JOM's, Shanghai Sunbeauty's, and Wentai's single sales to the United States and stated the Department's preliminary intention to rescind the new shipper reviews of all three companies. See Memorandum to James C. Doyle, Director, Office 9, from Scot T. Fullerton and Prentiss Lee Smith, Case Analysts, Office 9: Bona Fides Analysis and Intent to Rescind New Shipper Review of Freshwater Crawfish Tail Meat from the People's Republic of China for Jiangsu Jiushoutang Organisms-Manufactures Co., Ltd., dated February 23, 2006 (“Jiangsu JOM Bona Fides Memo”), Memorandum to James C. Doyle, Director, Office 9, from Scot T. Fullerton and Prentiss Lee Smith, Case Analysts, Office 9: Bona Fides Analysis and Intent to Rescind New Shipper Review of Freshwater Crawfish Tail Meat from the People's Republic of China for Shanghai Sunbeauty Trading Co. Ltd., dated February 23, 2006 (“Shanghai Sunbeauty Bona Fides Memo”), and Memorandum to James C. Doyle, Director, Office 9, from Scot T. Fullerton and Prentiss Lee Smith, Case Analysts, Office 9: Bona Fides Analysis and Intent to Rescind New Shipper Review of Freshwater Crawfish Tail Meat from the People's Republic of China for Qingdao Wentai Trading Co. Ltd., dated February 23, 2006 (“Wentai Bona Fides Memo”).

In concurrence with issuing its preliminary results, the Department provided interested parties with an opportunity to submit comments on the Department's bona fides analysis memos. Shanghai Sunbeauty provided comments on the Department's Shanghai Sunbeauty Bona Fides Memo on April 7, 2006, and Jiangsu JOM provided comments on the Department's Jiangsu JOM Bona Fides Memo on April 7, 2006. Wentai provided comments on the Department's Wentai Bona Fides Memo on April 7, 2006, which the Department rejected on April 13, 2006, for containing untimely new factual information. Wentai resubmitted its comments on April 14, 2006. The Crawfish Processors Alliance, the Louisiana Department of Agriculture and Forestry, and Bob Odom, Commissioner, collectively provided rebuttal comments on April 14, 2006.

Rescission of Review

Concurrent with this notice, we are issuing an issues and decision memorandum detailing our analysis of the comments received regarding our decision to preliminarily rescind the reviews for all three companies based on the non-bona fide nature of their sales. See Memorandum from Stephen J. Claeys, Deputy Assistant Secretary for Import Administration to David M. Spooner, Assistant Secretary for Import Administration: Issues and Decision Memorandum for the Final Results in the 2004/2005 Semiannual New Shipper Review of Freshwater Crawfish Tail Meat from the People's Republic of China dated June 23, 2006 (“Decision Memo”).

In evaluating whether or not a sale is commercially reasonable, and therefore bona fide, the Department has considered, inter alia, such factors as (1) the timing of the sale; (2) the price and quantity; (3) the expenses arising from the transaction; (4) whether the goods were resold at a profit; and (5) whether the transaction was at arms-length. See e.g., Tianjin Tiancheng Pharmaceutical Co., Ltd. v. U.S., 366 F. Supp. 2d 1246, 1249 (CIT 2005) (“TTPC”), citing Am. Silicon Techs. v. U.S., 110 F. Supp. 2d 992, 995 (CIT 2000). However, the analysis is not limited to these factors alone. The Department examines a number of factors, all of which may speak to the commercial realities surrounding the sale of subject merchandise. While some bona fides issues may share commonalities across various Department cases, each one is company-specific and may vary with the facts surrounding each sale. See Certain Preserved Mushrooms From the People's Republic of China: Final Results and Partial Rescission of the New Shipper Review and Final Results and Partial Rescission of the Third Antidumping Duty Administrative Review, 68 FR 41304 (July 11, 2003) and accompanying Issues and Decision Memorandum, at 20. The weight given to each factor considered will depend on the circumstances surrounding the sale. See TTPC, 366 F. Supp. 2d at 1263.

As discussed in detail in the Decision Memo, the Department has determined that the sale made by Jiangsu JOM was not bona fide because: 1) the price and quantity for Jiangsu JOM's sale of crawfish tail meat were atypical of its post-POR sales and of other exports from the PRC of the subject merchandise into the United States during the POR; 2) Jiangsu JOM's failed to disclose relationships between it and other crawfish tail meat exporters and producers; 3) Jiangsu JOM completely changed its U.S. customer base after the POR sale; as well as 4) other indicia of a non-bona fide transaction.

As discussed in detail in the Decision Memo, the Department has determined that the sale made by Shanghai Sunbeauty was not bona fide because: 1) the price and quantity for Shanghai Sunbeauty's sale of crawfish tail meat were atypical of its post-POR sales and of other exports from the PRC of the subject merchandise into the United States during the POR;

2) Seawind's POR purchase and cash deposit was atypical; 3) the source and timeliness of payment from the POR customer was atypical; as well as 4) other indicia of a non-bona fide transaction.

As discussed in detail in the Decision Memo, the Department has determined that the sale made by Wentai was not bona fide because: 1) the price and quantity for Wentai's sale of crawfish tail meat were atypical vis-a-vis other exports from the PRC of the subject merchandise into the United States during the POR; 2) the circumstances surrounding the single POR sale and its negotiation were unusual; 3) the exporter and producer failed to report certain business relationships; as well as 4) the atypical circumstances surrounding the formation of Wentai and Shunxiang.

Wentai, Shanghai Sunbeauty, and Jiangsu JOM each only made a single, non-bona fide sale during the POR. Therefore, the Department is rescinding these reviews because there are no reviewable sales during the POR. See TTCP, 366 F. Supp. 2d at1249. Because the Department is rescinding the new shipper reviews, we are not making a determination as to whether Jiangsu JOM, Shanghai Sunbeauty, and Wentai qualify for separate rates. Therefore, Jiangsu JOM, Shanghai Sunbeauty, and Wentai will remain part of the PRC-wide entity.

Notification

The Department will notify U.S. Customs and Border Protection that bonding is no longer permitted to fulfill security requirements for shipments by Jiangsu JOM, Shanghai Sunbeauty, and Wentai of freshwater crawfish tail meat from the PRC entered, or withdrawn from warehouse, for consumption in the United States on or after the publication of this rescission notice in the Federal Register, and that a cash deposit of 223.01 percent ad valorem should be collected for any entries exported by Jiangsu JOM, Shanghai Sunbeauty, and Wentai.

This notice also serves as the only reminder to parties subject to administrative protective orders (“APO”) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(2)(B) and 777(i) of the Act.

Dated: June 23, 2006.
David M. Spooner,
Assistant Secretary for Import Administration.

[FR Doc. E6-10375 Filed 6-30-06; 8:45 am]

BILLING CODE 3510-DS-S